ENVIRONMENTAL PROTECTION AGENCY

[OPP-64058; FRL-6791-6]

Notice of Receipt of Requests for Label Amendments to Delete Certain Uses in Some Pesticide Registrations Containing Dimethoate

AGENCY: Environmental Protection Agency (EPA).

ACTION: Notice.

SUMMARY: In accordance with Section 6(f)(1) of the Federal Insecticide, Fungicide and Rodenticide Act (FIFRA), as amended, EPA is issuing a notice of receipt of request for amendment by registrants to delete uses on cabbage, Chinese (bok choy) and kohlrabi in certain pesticide registrations containing dimethoate.

DATE: These deletions will be approved by the Agency and become effective on September 11, 2001.

FOR FURTHER INFORMATION CONTACT: By mail: Suku Oonnithan, Registration Division (7505C), Office of Pesticide Programs, Environmental Protection Agency, 1200 Pennsylvania Avenue, N.W. Washington, DC 20460-0001; telephone number: (703) 605-0368. Office location for commercial courier delivery: Room 266A, Crystal Mall No. 2, 1921 Jefferson Davis Highway, Arlington, VA 22202-4501.

SUPPLEMENTARY INFORMATION:

I. General Information

A. Does This Action Apply to Me?

This action is directed to the public in general. Although this action may be of particular interest to persons who produce or use these pesticide formulations, the Agency has not attempted to describe all the specific entities that may be affected by this action. If you have any questions regarding the information in this notice, consult the person listed in the FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations,” “Regulations and Proposed Rules,” and then look up the entry for this document under the “Federal Register—Environmental Documents.” You can also go directly to the Federal Register listing at http://www.epa.gov/fedrgstr/.

2. In person. Contact Suku Oonnithan at 1921 Jefferson Davis Highway, Crystal Mall #2, Rm. 209, Arlington, VA, telephone number: 703-605-0368, e-mail: oonnithan.suku@epa.gov. Available from 8 a.m. to 4 p.m., Monday through Friday, excluding legal holidays.

II. What Action is the Agency Taking?

This notice announces receipt by the Agency of applications from registrants to delete certain uses in three pesticide registrations containing the active ingredient dimethoate. These registrations are listed in the following Table 1 by registration number, product name and specific uses deleted.

Table 1.—Registrations with Requests for Amendments to Delete Uses in Dimethoate Pesticide Registrations
Registration No. | Product Name | Deleted Uses
051036-110 | Dimethoate 4E | cabbage, Chinese (bok choy), Kohlrabi
051036-198 | Cymate 267 | do
067760-36 | Chemathoate 267 EC Systemic Insecticide | do

Although other uses of dimethoate on broccoli, Brussel sprouts, cabbage, cauliflower, collards, kale and mustard greens have been registered sites for residues of dimethoate under the Federal Food, Drug and Cosmetic Act (FFDCA), FIFRA Section 2(z)(bb), the use on cabbage, Chinese (bok choy) and kohlrabi represent an unreasonable adverse effect on the environment, as they could result in human dietary risk from the residues resulting from the use of dimethoate in or on food consistent with the standard under Section 408 of FIFRA. As such the Agency is hereby waving the 180-day comment period normally given for the deletion of a minor agricultural use in accordance with FIFRA section 6(f)(1)(c). The Agency has determined that, while these actions require publication for the purpose of announcement, a comment period is not warranted. The following Table 2 includes the names and addresses of record for the registrants of the products listed in Table 1.

Table 2.—Registrants Requesting Voluntary Cancellation
EPA Company No. | Company Name and Address
051036 | Micro-Flo Company, P.O. Box 772099, Memphis, TN 38117-2099
067760 | Cheminova Inc., 1700 Route 23, Suite 300, Wayne, NJ. 07470

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Provisions for Disposition of Existing Stocks

The Agency has authorized the registrants to sell or distribute product under the previously approved labeling for a period of 18 months after the date of use deletions.

List of Subjects

Environmental protection, Pesticides and Product Registrations.

Dated: August 27, 2001.
Richard D. Schmitt,
Acting Director, Information Resources and Services Division, Office of Pesticide Programs.

[FR Doc. 01-22758 Filed 9-10-01; 8:45 a.m.]

BILLING CODE 6560-50-S